DEPARTMENT OF HOMELAND SECURITY

Coast Guard

46 CFR Part 67

[USCG-2003-14472]

RIN 1625-AA63

DEPARTMENT OF TRANSPORTATION

Maritime Administration

46 CFR Part 221

[Docket No. MARAD-2003-15171]

RIN 2133-AB51

Vessel Documentation: Lease Financing for Vessels Engaged in the Coastwise Trade; Second Rulemaking

AGENCIES: Coast Guard, DHS, and Maritime Administration, DOT.

ACTION: Proposed rule; notice of public meeting.

SUMMARY: The Coast Guard and the Maritime Administration will hold a public meeting on their joint notice of proposed rulemaking published in the Federal Register on February 4, 2004 (69 FR 5403). In that document, the Coast Guard proposes to amend its regulations on documentation, under the lease-financing provisions, of vessels engaged in the coastwise trade. The Maritime Administration (MARAD) proposes to amend its regulations to require MARAD's approval of all transfers of the use of a lease-financed vessel engaged in the coastwise trade back to the vessel's foreign owner, the parent of the owner, a subsidiary or affiliate of the parent, or an officer, director, or shareholder of one of them.

DATES: The public meeting will be held on April 2, 2004, from 9 a.m. to 3 p.m. The meeting may close early if all business is finished.

ADDRESSES: The public meeting will be held at the Department of Transportation, Nassif Building, room 2230, 400 Seventh Street SW., Washington, DC 20590. In order to enter the Nassif Building, provide the names of persons planning to attend the meeting and the company or organizations they represent to Robert S. Spears at the address under FOR FURTHER INFORMATION CONTACT at least two days before the meeting.

FOR FURTHER INFORMATION CONTACT: If you have questions on the public meeting, call Robert S. Spears, Office of Standards Evaluation and Development (G-MSR), U.S. Coast Guard Headquarters, telephone 202-267-1099 or e-mail rspears@comdt.uscg.mil.

SUPPLEMENTARY INFORMATION: The Coast Guard and the Maritime Administration will hold a public meeting on their joint notice of proposed rulemaking published in the Federal Register on February 4, 2004 (69 FR 5403).

Procedural

The meeting is open to the public. Non-Federal Government visitors must enter the Nassif Building (DOT Headquarters) through the southwest security entrance near the corner of Seventh and E Streets. Security staff will compare the visitor's photo identification card with the names on the list of meeting attendees. Visitors will be escorted to and from the meeting rooms. There is limited commercial parking in the area (at Sixth and School Streets Southwest and at Sixth and D Streets Southwest) and a Metrorail stop (L'Enfant Plaza) in the building. Attendees may make oral presentations during the meeting. Please note that the meeting may close early if all business is finished.

Information on Services for Individuals With Disabilities

For information on facilities or services for individuals with disabilities or to request special assistance at the meeting, contact Robert S. Spears at the address under FOR FURTHER INFORMATION CONTACT as soon as possible.

Dated: March 5, 2004.
By Order of the Maritime Administrator:
Murray A. Bloom,
Acting Secretary, Maritime Administration.
Joseph J. Angelo,
Director of Standards, Marine Safety, Security, and Environmental Protection, Coast Guard.

[FR Doc. 04-5422 Filed 3-10-04; 8:45 am]

BILLING CODE 4910-15-P